DEPARTMENT OF COMMERCE

International Trade Administration

[A-583-816]

Certain Stainless Steel Butt-Weld Pipe Fittings from Taiwan: Final Results and Final Rescission in Part of Antidumping Duty Administrative Review

AGENCY: Import Administration, International Trade Administration, Department of Commerce.

ACTION: Notice of final results in the antidumping duty administrative review of certain stainless steel butt-weld pipe fittings from Taiwan.

SUMMARY: On July 9, 2002, the Department of Commerce (“Department”) published the preliminary results and partial rescission in part of the administrative review of the antidumping duty order on certain stainless steel butt-weld pipe fittings from Taiwan. This review covers one manufacturer/exporter of the subject merchandise. The period of review (“POR”) is June 1, 2000 through May 31, 2001.

We gave interested parties an opportunity to comment on the preliminary results. Based upon our analysis of the comments received, we have made changes in the margin calculation. Therefore, the final results differ from the preliminary results of this review. The final weight-averaged dumping margin is listed below in the section titled “Final Results of the Review.”

EFFECTIVE DATE: December 24, 2002.

FOR FURTHER INFORMATION CONTACT: Lilit Astvatsatrian or James Doyle, Enforcement Group III, Office 9, Import Administration, International Trade Administration, U.S. Department of Commerce, 1401 Constitution Avenue, N.W., Washington, D.C. 20230, telephone 202-482-6412 or 202-482-0159, respectively, fax 202-482-0865.

SUPPLEMENTARY INFORMATION:

Applicable Statute

Unless otherwise indicated, all citations to the Tariff Act of 1930 (“Act”) are references to the provisions effective January 1, 1995, the effective date of the amendments made to the Act by the Uruguay Round Agreements Act (“URAA”). In addition, unless otherwise indicated, all citations to the Department's regulations are to the regulations at 19 CFR Part 351 (2001).

Background

On June 16, 1993, the Department published in the Federal Register the antidumping duty order on certain stainless steel butt-weld pipe fittings from Taiwan. See Amended Final Determination and Antidumping Duty Order: Certain Stainless Steel Butt-Weld Pipe and Tube Fittings from Taiwan, 58 FR 33250 (June 16, 1993). On June 11, 2001, the Department published in the Federal Register a notice of opportunity to request an administrative review of the antidumping duty order on certain stainless steel butt-weld pipe fittings from Taiwan covering the period June 1, 2000 through May 31, 2001. See Notice of Opportunity to Request Administrative Review of Antidumping or Countervailing Duty Order, Finding, Or Suspended Investigation, 66 FR 31203 (June 11, 2001). On June 29, 2001 respondent, Ta Chen requested that the Department conduct an administrative review for the period of June 1, 2000 to May 31, 2001. Additionally, on June 29, 2001, the petitioners requested that the Department conduct an administrative review of Ta Chen, Liang Feng Stainless Steel Fitting Co., Ltd. (“Liang Feng”) and Tru-Flow Industrial Co., Ltd. (“Tru-Flow”) for the period June 1, 2000 through May 31, 2001. On July 23, 2001, the Department published a notice of initiation of this antidumping duty administrative review for the period of June 1, 2000 through May 31, 2001. See Notice of Initiation of Antidumping or Countervailing Duty Administrative Reviews and Requests for Revocation in Part, 66 FR 38252 (July 23, 2001).

On July 25, 2001, the Department issued its antidumping questionnaire to Ta Chen, Liang Feng and Tru-Flow. On July 30, 2001, Liang Feng reported that it had no sales, entries or shipments of subject merchandise to the United States during the POR. Additionally, on July 31, 2001, Tru-Flow reported that it had no sales, entries or shipments of subject merchandise to the United States during the POR. On August 6, 2001, the petitioners opposed Liang Feng's and Tru-Flow's statements from their July 30 and July 31 letters, respectively.

On August 15, 2001, Ta Chen reported that it made sales of subject merchandise to the United States during the period of review (“POR”) in its response to Section A of the Department's questionnaire. On September 7, 2001, Ta Chen submitted its response to Sections B, C, and D of the Department's questionnaire. On August 28, 2001, the Department issued to Ta Chen a supplemental questionnaire to Section A of the Department's questionnaire, for which Ta Chen submitted its response on September 25, 2001. On January 8, 2002, the Department issued to Ta Chen a supplemental questionnaire to Sections B, C, and D of the Department's questionnaire. On January 29, 2002, Ta Chen submitted its response to this supplemental questionnaire. On April 23, 2002, the Department issued to Ta Chen the second supplemental questionnaire to Sections A-D of the Department's questionnaire. On May 13, 2002, Ta Chen submitted its response to the second supplemental questionnaire for Sections A-D of the Department's questionnaire. On May 17, 2002, the Department asked Ta Chen to submit various pages that were missing from the exhibits in the May 13, 2002 submission. On May 17, 2002, Ta Chen submitted two sets of information, one of which contained the missing exhibit pages the Department requested. Ta Chen also submitted additional information it claimed was inadvertently omitted from its response to the Department's second Sections A-D supplemental questionnaire. From May 20-May 23, 2002, the Department of Commerce conducted the U.S. sales verification of the questionnaire responses of Ta Chen and TCI. On June 12, 2002, the Department requested that Ta Chen resubmit its U.S. sales database to incorporate one of the minor corrections from verification. Ta Chen submitted the revised U.S. sales database on June 14, 2002. On June 13, 2002, the Department asked Ta Chen an additional supplemental question regarding clarification of a specific home market sales observation. On June 20, 2002, Ta Chen submitted its response to the Department's supplemental question.

Additionally, the Department sent questionnaires to two of Ta Chen's subcontractors on January 28, 2002, to which they responded on February 18, 2002. On April 25, 2002, the Department issued a supplemental questionnaire to the same two subcontractors. They filed in their responses on May 23, 2002.

Pursuant to section 751(a)(3)(A) of the Act, the Department may extend the deadline for conducting an administrative review if it determines that it is not practicable to complete the review within the statutory time limit of 245 days. On January 22, 2002, the Department extended the time limits for the preliminary results by 120 days to June 29, 2002 in accordance with the Act. However, because June 29, 2002 fell on a weekend, the Department stated it would release its preliminary results on July 1, 2002. See Notice of Postponement of Preliminary Results of Antidumping Duty Administrative Review: Certain Stainless Steel Butt-Weld Pipe Fittings from Taiwan, 67 FR 2856 (January 22, 2002). The Department's preliminary determination in this review was published on July 9, 2002. See Certain Stainless Steel Butt-Weld Pipe Fittings From Taiwan: Preliminary Results and Preliminary Rescission in Part of Antidumping Duty Administrative Review, (“Preliminary Results”) 67 FR 45467 (July 9, 2002). We invited parties to comment on the Preliminary Results. We received written comments on August 8, 2002 from petitioners and on August 9, 2002, from Ta Chen. On August 15, 2002, we received rebuttal comments from petitioners and Ta Chen. On November 7, 2002, (67 FR 67823) the Department extended the time limit for this review 30 days. On November 27, 2002, the Department extended the time limit for this review an additional 11 days so that final results of this review become due on December 17, 2002.

The Department is conducting this administrative review in accordance with section 751 of the Act.

Scope of the Review

The merchandise subject to this administrative review is certain stainless steel butt-weld pipe fittings (“SSBWPF”) whether finished or unfinished, under 14 inches inside diameter. Certain SSBWPF are used to connect pipe sections in piping systems where conditions require welded connections. The subject merchandise is used where one or more of the following conditions is a factor in designing the piping system: (1) Corrosion of the piping system will occur if material other than stainless steel is used; (2) contamination of the material in the system by the system itself must be prevented; (3) high temperatures are present; (4) extreme low temperatures are present; and (5) high pressures are contained within the system.

Pipe fittings come in a variety of shapes, with the following five shapes the most basic: “elbows”, “tees”, “reducers”, “stub-ends”, and “caps.” The edges of finished pipe fittings are beveled. Threaded, grooved, and bolted fittings are excluded from this review. The pipe fittings subject to this review are classifiable under subheading 7307.23.00 of the Harmonized Tariff Schedule of the United States (“HTSUS”).

Although the HTSUS subheading is provided for convenience and customs purposes, our written description of the scope of the review is dispositive. Pipe fittings manufactured to American Society of Testing and Materials specification A774 are included in the scope of this order.

During this administrative review, the Department received a scope ruling request on April 12, 2001 and in accordance with 19 CFR 351.225(k)(2) from Allegheny Bradford Corporation d/b/a Top Line Process Equipment Company (“Top Line”), for a scope ruling on whether stainless steel butt-weld tube fittings it plans to import are covered by the antidumping duty order on stainless steel butt-weld pipe fittings from Taiwan. On November 15, 2001, the Department issued its preliminary scope ruling. See Memorandum from Edward C. Yang, Director, Enforcement, Group III, Office 9, to Joseph A. Spetrini, Deputy Assistant Secretary for Import Administration, Group III: Preliminary Scope Ruling on the Antidumping Duty Order on Stainless Steel Butt-Weld Pipe Fittings: Allegheny Bradford Corporation d/b/a Top Line Process Equipment (“Preliminary Scope Ruling”), dated November 15, 2001, which is on file at the U.S. Department of Commerce, in the Central Records Unit, in room B-099. We gave interested parties an opportunity to comment on our Preliminary Scope Ruling. Top Line and Petitioners filed briefs on November 21, 2001. On November 26, 2001, Top Line and Petitioners filed rebuttal briefs. On December 10, 2001, the Department issued its final scope ruling that Top Line's stainless steel butt-weld tube fittings are within the scope of the Order. See Memorandum from Edward C. Yang, Director, Enforcement, Group III, Office 9, to Joseph A. Spetrini, Deputy Assistant Secretary for Import Administration, Group III: Final Scope Ruling on the Antidumping Duty Order on Stainless Steel Butt-Weld Pipe Fittings: Allegheny Bradford Corporation d/b/a Top Line Process Equipment, dated December 10, 2001, which is also on file at the U.S. Department of Commerce, in the Central Records Unit, in room B-099.

Partial Rescission of Review

In the Preliminary Determination, the Department preliminarily rescinded the review with respect to Liang Feng and Tru-Flow as we found that there were no entries of subject merchandise during the POR. See Preliminary Determination, 65 FR 45467, 45469. As the Department received no comments on this issue and as no additional evidence has arisen, the Department is rescinding the review with respect to Liang Feng and Tru Flow.

Analysis of Comments Received

All issues raised in the case briefs, as well as the Department's findings, in this administrative review are addressed in the Issues and Decision Memorandum for the Administrative Review of Stainless Steel Butt-Weld Pipe Fittings from Taiwan: June 1, 2000 through May 31, 2001 (“Decision Memorandum”), dated December 17, 2002, which is hereby adopted by this notice. A list of the issues raised and to which we have responded, all of which are in the Decision Memorandum, is attached to this notice as Appendix I. Parties can find a complete discussion of all issues raised in this review and the corresponding recommendations in this public memorandum which is on file at the U.S. Department of Commerce, in the Central Records Unit, in room B-099. In addition, a complete version of the Decision Memorandum can be accessed directly on the Web at www.ia.ita.doc.gov. The paper copy and electronic version of the public version of the Decision Memorandum are identical in content.

Sales Below Cost in the Home Market

As discussed in more detail in the Preliminary Results, the Department disregarded home market below-cost sales that failed the cost test in the final results of review.

Changes Since the Preliminary Results

A list of the issues which parties have raised and to which we have responded, all of which are in the Decision Memorandum, is attached to this notice as Appendix I. Based on our analysis of the comments received, we have made certain changes in the margin calculation, as discussed in the Decision Memorandum, accessible in B-099. The changes are as follows:

• The Department has changed the amount used for inter-warehouse transfer.

• The Department has applied, as facts available, the average margin of all the U.S. sales to two sets of sales in question, instead of the average positive margin applied in the preliminary results.

• The Department has recalculated the indirect selling expense ratio since it is our policy to offset interest expenses included in indirect selling expenses by the amount of imputed expenses related to subject merchandise.

• The Department has recalculated Ta Chen's G&A to include bonuses to employees, supervisors, and directors paid from stockholder's equity.

Final Results of the Review

We determine that the following percentage weighted-average margin exists for the period June 1, 2000 through May 31, 2001:

Certain Welded Stainless Steel Pipe
Producer/Manufacturer/Exporter | Weighted-Average ­Margin (percent)
Ta Chen | 2.38

The Department shall determine, and the U.S. Customs Service (“Customs”) shall assess, antidumping duties on all appropriate entries. In accordance with 19 CFR 351.212(b), we have calculated importer-specific assessment rates. With respect to the constructed export price sales, we divided the total dumping margins for the reviewed sales by the total entered value of those reviewed sales for each importer. We will direct Customs to assess any resulting non-de minimis percentage margins against the entered Customs values for the subject merchandise on each of that importer's entries during the review period.

Cash Deposit Requirements

The following deposit requirements will be effective upon publication of this notice of final results of administrative review for all shipments of certain SSBWPF from Taiwan entered, or withdrawn from warehouse, for consumption on or after the date of publication, as provided by section 751(a)(1) of the Act: (1) The cash deposit rate for Ta Chen will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers shall continue to be 51.01 percent.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (“APO”) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(1) and 777(i) of the Act.

Dated: December 17, 2002.
Bernard T. Carreau,
ActingAssistant Secretary for Import Administration.

APPENDIX I

Discussion of the Issues:

Comment 1: Intra-Warehouse Freight Costs

Comment 2: CEP Profit

Comment 3: Use of Adverse Facts Available

Comment 4: Home Market Credit Expenses

Comment 5: CEP Expenses

Comment 6: CEP Offset

Comment 7: Costs Associated with U.S. Short-Term Borrowings

Comment 8: U.S. Indirect Selling Expenses

Comment 9: Home Market Indirect Selling Expenses

Comment 10: Home Market Inventory Carrying Costs Related to U.S. Sales

Comment 11: General and Administrative Expenses

Comment 12: Miscellaneous

[FR Doc. 02-32430 Filed 12-23-02; 8:45 am]

BILLING CODE 3510-DS-S